DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Screening, Brief Intervention, Brief Treatment and Referral to Treatment (SBIRT) Cross-Site Evaluation—New

SAMHSA is conducting a cross-site external evaluation of the impact of programs of screening, brief intervention (BI), brief treatment (BT) and referral to treatment on patients presenting at various health care delivery units with a continuum of severity of substance use. SAMHSA's SBIRT program is a cooperative agreement grant program designed to help States and Tribal Councils expand the continuum of care available for substance misuse and use disorders. The program includes screening, brief intervention, brief treatment and referrals to treatment for persons at risk for dependence on alcohol or drugs. The cross-site evaluation will provide a comprehensive assessment of the effects of SBIRT on patient outcomes, performance site practices, and treatment systems. This information will allow SAMHSA to determine the extent to which SBIRT has met its objectives of implementing a comprehensive system of identification and care to meet the needs of individuals at all points along the substance use continuum.

A paper and pencil survey will be administered to practitioners in sites where SBIRT services are being delivered. The practitioner survey is designed to evaluate the implementation of proposed SBIRT models by measuring their penetration and practitioners' willingness to adopt. Furthermore, the survey will document moderating factors related to practitioner and health care delivery unit characteristics.

The 93 question practitioner survey includes collection of demographic information as well as questions that attempt to assess barriers to implementation encountered by the practitioners and to gauge the effectiveness of the training they received. These measures were developed and used by Babor et al. (2005) in their comparable study comparing different implementation strategies for primary care screening and brief intervention programs for hazardous and harmful drinkers. The practitioner survey also includes an instrument developed by Panzano and Roth (2006) to measures an organization's willingness to adopt new innovative practices.

Total Burden Hours for the Cross-Site Patient Survey
Instrument/activity | Number of respondents | Responses per respondent | Hours per response | Total burden hours | Hourly wage | Total respondent cost ᵃ
Practitioner Survey | 1,075 | 1 | .30 | 322.5 | $32 | $10,320

Written comments and recommendations concerning the proposed information collection should be sent by January 18, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: December 6, 2010.
Elaine Parry,
Director, Office of Management, Technology and Operations.

[FR Doc. 2010-31586 Filed 12-15-10; 8:45 am]

BILLING CODE 4162-20-P